DEPARTMENT OF TRANSPORTATION

Federal Railroad Administration

Notice Regarding Consideration and Processing of Applications for Financial Assistance Under the Railroad Rehabilitation and Improvement Financing (RRIF) Program

AGENCY: Federal Railroad Administration (FRA), Department of Transportation (DOT).

ACTION: Notice; technical correction.

SUMMARY: By this document, FRA is issuing a technical correction to the notice published in the Federal Register on September 29, 2010 (75 FR 60165) regarding consideration and processing of applications for financial assistance under the RRIF Program.

FOR FURTHER INFORMATION CONTACT: Barbara Amani, Chief of the Credit Programs Division, Office of Railroad Development, Federal Railroad Administration, 1200 New Jersey Avenue, SE., Washington, DC 20590 (telephone: (202) 493-6051; fax: (202) 493-6333; and e-mail: Barbara.Amani@dot.gov); or Casey Symington, Attorney Advisor, Office of Chief Counsel, Federal Railroad Administration, 1200 New Jersey Avenue, SE., Washington, DC 20590 (telephone: (202) 493-6349; fax: (202) 493-6068; and e-mail: Casey.Symington@dot.gov).

SUPPLEMENTARY INFORMATION: FRA published a notice in the Federal Register on September 29, 2010 (75 FR 60165) regarding FRA's consideration and processing of applications for financial assistance under the RRIF Program. On page 60166 of the notice, FRA inadvertently misstated information concerning loans that have been made under the RRIF Program since the enactment of the Transportation Equity Act for the 21st Century of 1998, Public Law 105-178 (1998) (TEA-21). FRA is hereby correcting that information, stated in the first column, second paragraph on page 60166 of the notice, to read as follows: “A total of 28 loans in an aggregate, initial principal amount of approximately $1.01 billion have been made under the RRIF Program since TEA-21 was enacted. Of these, a total of 3 loans have been repaid in full.” The notice is otherwise unchanged.

Issued in Washington, DC, on October 20, 2010.
Joseph C. Szabo,
Administrator.

[FR Doc. 2010-26942 Filed 10-25-10; 8:45 am]

BILLING CODE 4910-06-P